Proclamation 8060 of October 3, 2006

National Disability Employment Awareness Month, 2006

By the President of the United States of America

A Proclamation

During National Disability Employment Awareness Month, we pay tribute to the accomplishments of the men and women with disabilities whose work helps keep America's economy strong, and we underscore our commitment to ensuring equal employment opportunity for all of our citizens.

Our country has made great progress to ensure that opportunities are accessible to everyone who is willing and able to work. Access to jobs was significantly expanded in 1990 when President George H. W. Bush signed the Americans with Disabilities Act (ADA) into law. This important legislation has served as a foundation for strengthening our Nation's workforce and advancing innovation and American leadership in a global marketplace.

In 2001, my Administration announced the New Freedom Initiative to build on the progress of the ADA and more fully integrate men and women with disabilities into all aspects of life. The New Freedom Initiative has helped expand access to technology, training, and education for citizens with disabilities. As a result, those who have a disability and seek employment are better able to compete for jobs. To assist in providing additional access to employment opportunities, we have also implemented the “Ticket to Work” program and strengthened training and employment services at One-Stop Career Centers. By visiting DisabilityInfo.gov, individuals and employers can learn more about the Federal Government's disability-related programs and receive information and resources they need to help achieve their personal and professional ambitions.

To recognize the contributions of Americans with disabilities and to encourage all citizens to ensure equal opportunity in the workforce, the Congress, by joint resolution approved as amended (36 U.S.C. 121), has designated October of each year as “National Disability Employment Awareness Month.”

NOW, THEREFORE, I, GEORGE W. BUSH, President of the United States of America, by virtue of the authority vested in me by the Constitution and laws of the United States, do hereby proclaim October 2006 as National Disability Employment Awareness Month. I call upon Government officials, labor leaders, employers, and the people of the United States to observe this month with appropriate programs, ceremonies, and activities.

IN WITNESS WHEREOF, I have hereunto set my hand this third day of October, in the year of our Lord two thousand six, and of the Independence of the United States of America the two hundred and thirty-first.

[FR Doc. 06-8559

Filed 10-4-06; 11:47 am]

Billing code 3195-01-P